DEPARTMENT OF ENERGY

Federal Energy Regulatory Commission

Combined Notice of Filings

January 9, 2026.

Take notice that the Commission has received the following Natural Gas Pipeline Rate and Refund Report filings:

Filings Instituting Proceedings

Docket Numbers: RP26-367-000.

Applicants: Northern Natural Gas Company.

Description: § 4(d) Rate Filing: 20260108 Negotiated Rate Filing to be effective 1/9/2026.

Filed Date: 1/8/26.

Accession Number: 20260108-5122.

Comment Date: 5 p.m. ET 1/20/26.

Docket Numbers: RP26-368-000.

Applicants: Transwestern Pipeline Company, LLC.

Description: Compliance filing: Alert Day Refund Report on 1-9-26 to be effective N/A.

Filed Date: 1/9/26.

Accession Number: 20260109-5015.

Comment Date: 5 p.m. ET 1/21/26.

Docket Numbers: RP26-369-000.

Applicants: Iroquois Gas Transmission System, L.P.

Description: § 4(d) Rate Filing: 1.9.26 Negotiated Rates—Citadel Energy Marketing LLC H-7705-89 to be effective 1/9/2026.

Filed Date: 1/9/26.

Accession Number: 20260109-5046.

Comment Date: 5 p.m. ET 1/21/26.

Docket Numbers: RP26-370-000.

Applicants: Iroquois Gas Transmission System, L.P.

Description: § 4(d) Rate Filing: 1.9.26 Negotiated Rates—Trafigura Trading LLC H-8150-89 to be effective 1/9/2026.

Filed Date: 1/9/26.

Accession Number: 20260109-5051.

Comment Date: 5 p.m. ET 1/21/26.

Docket Numbers: RP26-371-000.

Applicants: Iroquois Gas Transmission System, L.P.

Description: § 4(d) Rate Filing: 1.9.26 Negotiated Rates—Freepoint Commodities LLC H-7250-89 to be effective 1/9/2026.

Filed Date: 1/9/26.

Accession Number: 20260109-5125.

Comment Date: 5 p.m. ET 1/21/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP20-1060-005.

Applicants: Columbia Gas Transmission, LLC.

Description: Refund Report: Settlement Refund Report—RP24-1103-000 et al. to be effective N/A.

Filed Date: 1/9/26.

Accession Number: 20260109-5092.

Comment Date: 5 p.m. ET 1/21/26.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Carlos D. Clay,
Deputy Secretary.

[FR Doc. 2026-00557 Filed 1-13-26; 8:45 am]

BILLING CODE 6717-01-P